DEPARTMENT OF ENERGY

Office of International Regimes and Agreements; Proposed Subsequent Arrangement

AGENCY: Department of Energy.

ACTION: Subsequent arrangement.

SUMMARY: This notice has been issued under the authority of Section 131 of the Atomic Energy Act of 1954, as amended (42 U.S.C. 2160). The Department is providing notice of a proposed subsequent arrangement under the Agreement for Cooperation in the Peaceful Uses of Nuclear Energy between the United States and the European Atomic Energy Community (EURATOM) and the Agreement for Cooperation Between the United States of America and the Republic of Turkey Concerning Peaceful Uses of Nuclear Energy.

This subsequent arrangement concerns the retransfer of 35.7kg of U.S.-origin low-enriched uranium silicide, of which 7.04kgs is in the isotope U-235, from CERCA, Romans, France to the Cekmece Nuclear Research & Training Center, Istanbul, Turkey. The material, which is in the form of 14 standard fuel elements and four control fuel elements and is located at the CERCA facility, will be transferred to Cekmece for use as research material and for isotope production in the TR-2 reactor. The low-enriched uranium silicide was originally sent to CERCA under NRC Export License XSNM3531.

In accordance with Section 131 of the Atomic Energy Act of 1954, as amended, we have determined that this subsequent arrangement is not inimical to the common defense and security.

This subsequent arrangement will take effect no sooner than fifteen days after the date of publication of this notice.

Dated: October 29, 2009.
For the Department of Energy.
Anatoli Welihozkiy,
Acting Director, Office of International Regimes and Agreements.

[FR Doc. E9-26457 Filed 11-3-09; 8:45 am]

BILLING CODE 6450-01-P